DEPARTMENT OF HOMELAND SECURITY

Coast Guard

33 CFR Part 165

[Docket No. USCG-2011-0279]

RIN 1625-AA00

Safety Zone; TriMet Bridge Project, Willamette River; Portland, OR

AGENCY: Coast Guard, DHS.

ACTION: Final rule.

SUMMARY: The U.S. Coast Guard will establish a safety zone during the construction of the TriMet Bridge on the Willamette River, in Portland, OR. This action is necessary to ensure the safety of recreational vessels and commercial vessels transiting in close proximity to cranes and overhead work associated with this construction project. During the enforcement period, all vessels will be required to transit through the area at a no wake speed and at a safe distance from the work being conducted.

DATES: This rule is effective in the CFR on August 25, 2011 through 11:59 p.m. on September 30, 2014. This rule is effective with actual notice for purposes of enforcement as of 12:01 a.m. on July 1, 2011.

ADDRESSES: Comments and material received from the public, as well as documents mentioned in this preamble as being available in the docket, are part of docket USCG-2011-0279 and are available online by going to http://www.regulations.gov, inserting USCG-2011-0279 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail BM1 Silvestre G. Suga, waterways Management Division, Marine Safety Unit Portland, Oregon, Coast Guard; telephone 503-240-9319, e-mail Silvestre.G.Suga@uscg.mil. If you have questions on viewing the docket, call Renee V. Wright, Program Manager, Docket Operations, telephone 202-366-9826.

SUPPLEMENTARY INFORMATION:

Regulatory Information

On May 4, 2011, we published a notice of proposed rulemaking (NPRM) entitled Safety Zone: TriMet Bridge Project, Willamette River; Portland, OR in the Federal Register (76 FR 86). We received no comments on the proposed rule. The Coast Guard did not receive a request for a public hearing.

Under 5 U.S.C. 553(d)(3), the Coast Guard finds that good cause exists for making this rule effective in less than 30 days after publication in the Federal Register. Due to the need for immediate action, the restriction of vessel traffic is necessary to protect the public; therefore, a 30-day delayed effective date is impracticable. Delaying the effective date would be contrary to the safety zone's intended objectives of protecting the public during the construction of the TriMet Bridge on the Willamette River, in Portland, OR.

Basis and Purpose

TriMet and their contractor, Kiewit Infrastructure West, began construction of the new Portland-Milwaukie Light Rail Bridge on July 1, 2011 (with in-water mobilization beginning in June). The construction of the bridge will last from July 2011 through October 2014. The project includes the construction of four piers, two on land and two piers in the water requiring cofferdams. Trestles will be constructed to complete sections of the project as well as the use of crane barges that can be affected by vessel wakes. To ensure the safety of construction crews on the barges, trestles, and cranes involved in this project TriMet has requested that the Coast Guard place a 1,000 foot safety zone around the entire project. This safety zone will include a 500 foot no wake zone upriver and downriver of the project. It will also include two exclusionary zones that will require vessels passing through the area to remain a distance of 100 feet in all directions away from the work trestles and 140 feet in all directions away from the cranes. This will ensure that the vessels passing through the designated areas will not be in a dangerous position under cranes or too close to the trestles.

Background

The Coast Guard did not consider any other options for this construction site. The safety hazards in the immediate area around this construction required actions to be taken to ensure that vessels did not get within 100 feet of certain areas of the equipment on the construction site.

Discussion of Comments and Changes

There were no comments received on the notice of proposed rulemaking and there have been no changes made to the proposed rule.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. The Coast Guard has made this determination based on the fact that this rule does not stop all river traffic. The rule will only limit entry into certain areas of the river for safety; the other section of the river will be open for transits at a no wake speed. Users of the river should not be adversely affected by the closures and delays.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities some of which may be small entities: The owners or operators of vessels wishing to transit the safety zone established by this rule. The rule will not have a significant economic impact on a substantial number of small entities because parts of the area will still be accessible to vessels and the vessels will still be able to transit through the safety zone area with permission. The Coast Guard did not receive any comments on this rule from small entities.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism. The Coast Guard did not receive any comments on this rule.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble. The Coast Guard did not receive any comments on this safety zone.

Taking of Private Property

This rule will not cause a taking of private property or otherwise have taking implications under Executive Order 12630, Governmental Actions and Interference with Constitutionally Protected Property Rights. The Coast Guard did not receive any comments on this rule.

Civil Justice Reform

This rule meets applicable standards in sections 3(a) and 3(b)(2) of Executive Order 12988, Civil Justice Reform, to minimize litigation, eliminate ambiguity, and reduce burden. The Coast Guard did not receive any comments on this rule.

Protection of Children

We have analyzed this rule under Executive Order 13045, Protection of Children from Environmental Health Risks and Safety Risks. This rule is not an economically significant rule and does not create an environmental risk to health or risk to safety that may disproportionately affect children. The Coast Guard did not receive any comments on this rule.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes. The Coast Guard did not receive any comments on this rule.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211. The Coast Guard did not receive any comments on this rule.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards. The Coast Guard did not receive any comments on this rule.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction. This rule involves the enforcement of a safety zone. An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1

2. Add § 165.1338 Safety Zone; TriMet Bridge Project, Willamette River; Portland, OR

(a) Location. The following area is a safety zone: All waters of the Willamette River encompassed within the following two lines: line one starting at latitude 45°30′26.21″ N longitude 122°39′57.53″ W on the east bank then across the Willamette River to latitude 45°30′20.77″ N longitude 122°40′13.04″ W on the west bank; line two starting at latitude 45°30′18.14″ N longitude 122°39′51.77″ W on the east bank then across the Willamette River to latitude 45°30′12.02″ N longitude 122°40′08.44″ W on the west bank.

Geographically this area is all the waters of the Willamette River within an area created by a line beginning on the east bank of the Willamette River at the OMSI facility extending across the river to the west bank, following the shoreline approximately 1000 feet up river to the Zidell waterfront area, extending across the river to the property line for Caruthers Landing, then following the shoreline approximately 1000 feet downriver to the starting point.

(b) Regulation. In accordance with the general regulations in 33 CFR Part 165, Subpart C, no vessel operator may enter or remain in the safety zone without the permission of the Captain of the Port or Designated Representative. The Captain of the Port may be assisted by other federal, state, or local agencies with the enforcement of the safety zone.

(c) Authorization. All vessel operators who desire to enter the safety zone must obtain permission from the Captain of the Port or Designated Representative by contacting the on-scene patrol craft. Vessel operators granted permission to enter the zone may be escorted by the on-scene patrol craft until they are outside of the safety zone.

(d) Enforcement Period. The safety zone detailed in paragraph (a) of this section will be in effect from 12:01 a.m. on July 1, 2011 through 11:59 p.m. on September 30, 2014.

Dated: July 26, 2011.
B.C. Jones,
Captain, U.S. Coast Guard, Captain of the Port, Columbia River.

[FR Doc. 2011-21700 Filed 8-24-11; 8:45 am]

BILLING CODE 9110-04-P